DEPARTMENT OF STATE

[Public Notice No. 3436]

Shipping Coordinating Committee; Maritime Safety Committee; Notice of Meeting

The Shipping Coordinating Committee will conduct an open meeting at 9:30 a.m. on Tuesday, November 21, 2000, in Room 2415, at U.S. Coast Guard Headquarters, 2100 2nd Street, SW., Washington, DC 20593-0001. The purpose of this meeting will be to finalize preparations for the 73rd Session of the Maritime Safety Committee, and associated bodies of the International Maritime Organization (IMO), which is scheduled for November 27—December 6, 2000, at IMO Headquarters in London. At this meeting, papers received and the draft U.S. positions will be discussed.

Among other things, the items of particular interest are:

• Large passenger ship safety.

• Adoption of amendments to the International Convention for Safety of Life at Sea.

• Bulk carrier safety.

• Mandatory application of the International Maritime Dangerous Goods (IMDG) Code.

• Piracy and armed robbery against ships.

• Reports of five subcommittees-Flag State implementation; Bulk liquids and gases; Safety of navigation; ship design and equipment; and stability, loadlines and fishing vessels.

Members of the public may attend this meeting up to the seating capacity of the room. Interested persons may seek information by writing to Mr. Joseph J. Angelo, Commandant (G-MS), U.S. Coast Guard Headquarters, 2100 2nd Street, SW., Room 1218, Washington, DC 20593-0001 or by calling (202) 267-2970.

Dated: October 10, 2000.
Stephen Miller,
Executive Secretary, Shipping Coordinating Committee.

[FR Doc. 00-26496 Filed 10-13-00; 8:45 am]

BILLING CODE 4710-07-U